LEGAL SERVICES CORPORATION

Board of Directors Committee on Provision for the Delivery of Legal Services; Sunshine Act Meeting

TIME AND DATE: The Committee on Provision for the Delivery of Legal Services of the Legal Services Corporation Board of Directors will meet on May 31, 2002. The meeting will begin at 9 a.m. and continue until the Committee concludes its agenda.

LOCATION: The Melrose Hotel, 2430 Pennsylvania Avenue, NW., Washington, DC.

STATUS OF MEETING: Open.

MATTERS TO BE CONSIDERED: 1. Approval of agenda.

2. Approval of the minutes of the Committee's meeting of April 5, 2002.

3. Panel Discussion—Listening to the Voices of our Clients. Five legal services clients from across the country will talk about the issues and problems that brought them into a legal services office and discuss the importance of legal services in their lives.

4. Office of Program Performance (OPP) Staff Updates on Three Special Projects:

(1) Update by Cynthia Schneider, OPP Program Counsel, on LSC's Contract for Skills Training with the National Poverty Law Center.

(2) Update by Monica Holman, OPP Program Counsel, on LSC's Resource Library (a.k.a. LARRY).

(3) Update by Joyce Raby, OPP Program Analyst, and Glen Rawdon, OPP Program Counsel, on LSC's Technology Initiative.

5. Report by Randi Youells, Vice President for Programs, on the State Planning Evaluation Instrument and the Innovations in Government Award Application.

6. Report by Randi Youells on development and publication of grant assurances.

7. Consider and act on other business.

8. Public comment.

CONTACT PERSON FOR INFORMATION: Victor M. Fortuno, Vice President for Legal Affairs, General Counsel Corporate Secretary of the Corporation, at (202) 336-8800.

SPECIAL NEEDS: Upon request, meeting notices will be made available in alternate formats to accommodate visual and hearing impairments. Individuals who have a disability and need an accommodation to attend the meeting may notify Elizabeth S. Cushing, at (202) 336-8800.

Dated: May 24, 2002.
Victor M. Fortuno,
Vice President for Legal Affairs, General Counsel & Corporate Secretary.

[FR Doc. 02-13562 Filed 5-24-02; 2:22 pm]

BILLING CODE 7050-01-P